DEPARTMENT OF COMMERCE

National Oceanic and Atmospheric Administration

Notice of Availability of a Draft Programmatic Environmental Impact Statement for the Coral Reef Conservation Program

AGENCY: Office for Coastal Management (OCM), National Ocean Service (NOS), National Oceanic and Atmospheric Administration (NOAA), Department of Commerce (DOC).

ACTION: Notice of availability of a draft Programmatic Environmental Impact Statement; Request for comments.

SUMMARY: The National Oceanic and Atmospheric Administration (NOAA), Office for Coastal Management has prepared a draft programmatic environmental impact statement (PEIS) in accordance with the National Environmental Policy Act of 1969 (NEPA) for its Coral Reef Conservation Program (CRCP), which is managed by NOAA's National Ocean Service in Silver Spring, MD, and implemented in coastal areas and marine waters of Florida, Puerto Rico, U.S. Virgin Islands, Gulf of Mexico, Hawaii, Guam, the Commonwealth of the Northern Mariana Islands, American Samoa, the U.S. Pacific Remote Islands, and targeted international regions including the wider Caribbean, the Coral Triangle, the South Pacific, and Micronesia. Publication of this document begins the public comment period for the draft PEIS.

DATES: Written comments on the draft PEIS will be accepted on or before January 27, 2020.

ADDRESSES: You may submit comments on the CRCP's draft PEIS by any of the following methods:

• Federal e-Rulemaking Portal: Go to http://www.regulations.gov/NOAA-NOS-201-0127. Click the “Comment Now!” icon, complete the required fields, and enter or attach your comments.

• Mail: Please direct written comments to Harriet Nash, Deputy Director, NOAA's Coral Reef Conservation Program, Office for Coastal Management, 1305 East-West Highway, N/OCM6, Room 10404, Silver Spring, MD 20910.

FOR FURTHER INFORMATION CONTACT: Liz Fairey, NMFS Office of Habitat Conservation, NOAA Coral Reef Conservation Program, 1315 East-West Highway, Silver Spring, MD 20910, liz.fairey@noaa.gov.

SUPPLEMENTARY INFORMATION: NOAA has prepared a draft PEIS for coral reef conservation and restoration activities conducted by NOAA's Coral Reef Conservation Program (CRCP) throughout parts of the United States, including the South Atlantic Ocean, Gulf of Mexico, and Remote Pacific Islands, and priority international areas (i.e., wider Caribbean, Coral Triangle, South Pacific, and Micronesia). The draft PEIS assesses the direct, indirect, and cumulative environmental impacts of NOAA's proposed action to continue funding and otherwise conducting coral reef conservation and restoration activities through the CRCP's existing programmatic framework and related procedures. The CRCP is implemented consistently with the requirements of the Coral Reef Conservation Act of 2000 (CRCA) and Executive Order 13089. Projects implemented or funded by NOAA vary in terms of their size, complexity, geographic location, and NOAA involvement, and often benefit diverse coral species, habitats, and ecosystem types. The CRCP conducts research and monitoring to gather data on the existence and condition of coral reef ecosystems to support conservation and restoration efforts. NOAA implements the CRCP across four of its line offices (i.e., National Ocean Service, Office of Oceanic and Atmospheric Research, National Marine Fisheries Service, and National Environmental Satellite, Data, and Information Service) and in coordination with other federal agencies, state and local agencies, private conservation organizations, and research and academic institutions. A significant amount of this support is administered through grants and cooperative agreements. CRCP activities are prioritized based on available funding and the responsiveness to the priorities in its strategic plan, including jurisdictional needs. The draft PEIS identifies and evaluates the general environmental impacts, issues, and concerns related to the comprehensive management and implementation of the CRCP, including potential mitigation. NOAA anticipates that some environmental effects will be caused by site-specific, project-level activities implementing the CRCP; therefore, the final PEIS will be used to support tiered, site-specific National Environmental Policy Act of 1969 (NEPA) reviews by narrowing the scope of environmental impacts and facilitating focused, project-level reviews. NOAA also intends for this draft PEIS to establish a tiered environmental decision-making framework that will support efficient compliance with other statutes protecting natural resources such as the Endangered Species Act (ESA) and Marine Mammal Protection Act to the extent they apply. Since the CRCP will use the Final PEIS to conduct tiered analyses, this document does not evaluate the environmental impacts of any project-level activities. The draft PEIS analyzes three program-level alternatives:

• No Action Alternative: The No Action Alternative would involve continued operation of the CRCP based on minimizing the three primary threats to coral reefs (i.e., fishing impacts, land-based sources of pollution, and climate change) and supporting research and possible application of novel coral restoration and intervention techniques to respond rapidly to imminent threats, such as increased bleaching and disease, to corals and coral reef ecosystems. CRCP operations would include monitoring, research activities, watershed and coral reef restoration, reduction of physical impacts to coral reefs, outreach and education, and program support. The CRCP would continue to be implemented using available appropriations, across four NOAA line offices, using a mix of internal and external funding, across existing geographic areas, and in collaboration with similar partners. The CRCP would continue to conduct program activities with mandatory mitigation measures developed in compliance with applicable environmental laws such as the ESA. For the purposes of this draft PEIS, it is assumed that the activities would be conducted in the same manner as they currently are.

• Alternative 1: This alternative would reflect the management of the CRCP to address and minimize the three primary threats but would not include research and possible application of restoration and intervention techniques targeting coral populations. The CRCP would continue to be implemented using available appropriations, across four NOAA line offices, using a mix of internal and external funding, across existing geographic areas, and using similar partners. The CRCP would continue to conduct program activities with mandatory mitigation measures developed in compliance with applicable environmental laws such as the ESA.

• Alternative 2: This alternative would continue management of CRCP to address and minimize the three primary threats and support research and possible application of novel coral restoration and intervention techniques to respond rapidly to imminent threats (i.e., the No Action Alternative) plus implement discretionary mitigation measures. The fundamental difference between this alternative and the other alternatives is that Alternative 2 would identify and implement a suite of standard, discretionary conservation and mitigation measures that would supplement mandatory mitigation measures required by statutes.

The fundamental distinction between Alternative 1 and the No Action Alternative is that the No Action Alternative would include research and potential application of novel restoration and intervention techniques as tools to respond to imminent threats to corals. The draft PEIS considers the environmental effects of a suite of these intervention strategies. Implementation could occur through a separate decision-making process. Alternative 1 would not implement restoration and intervention techniques targeting coral populations: It would instead focus resources solely on addressing the three primary threats that CRCP has prioritized over the last several years. Alternative 2 would be identical to the No Action Alternative except that it would call for implementation of not only mitigation measures imposed through statutory and regulatory compliance but also discretionary conservation and mitigation measures designed to further protect and conserve marine and other environmental resources.

The purpose of this NOA is to invite affected federal, state, and local agencies, and interested persons to participate in the draft PEIS process and provide comments on the structure, contents, and analysis in the draft PEIS. The official public review and comment period ends on January 27, 2020. Please visit the CRCP web page for additional information regarding the program: https://coralreef.noaa.gov/.

Authority: The preparation of the draft PEIS for the CRCP will be conducted in accordance with the requirements of NEPA, the Council on Environmental Quality's Regulations (40 CFR parts 1500-1508), other applicable regulations, and NOAA's policies and procedures for compliance with those regulations. Written comments must be received on or before January 27, 2020.

Keelin Kuipers,
Deputy Director, Office for Coastal Management, National Ocean Service, National Oceanic and Atmospheric Administration.

[FR Doc. 2019-26825 Filed 12-12-19; 8:45 am]

BILLING CODE 3510-08-P